FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 12, 2012

A. Federal Reserve Bank of New York (Ivan Hurwitz, Vice President) 33 Liberty Street, New York, New York 10045-0001:

1. Anil Bansal, Wayne, New Jersey, to acquire additional voting shares of IA Bancorp, Inc., and thereby indirectly acquire additional voting shares of Indus American Bank, both of Iselin, New Jersey.

B. Federal Reserve Bank of Richmond (Adam M. Drimer, Assistant Vice President) 701 East Byrd Street, Richmond, Virginia 23261-4528:

1. Gregory Allen Turnage, individually and as part of a group acting in concert including Leonard Turnage Marital Trust B and the Leonard Turnage Funded Irrevocable Trust (trustees, Teresa Turnage Finch and Gregory Allen Turnage), Teresa Turnage Finch, David Allen Turnage and Rebecca Nicole Turnage, all of Wilson, North Carolina, and Jamie Danielle Turnage of Wilmington, North Carolina, to acquire voting shares of CB Financial Corporation, and thereby indirectly acquire voting shares of Cornerstone Bank, both of Wilson, North Carolina.

Board of Governors of the Federal Reserve System, December 22, 2011.
Robert deV. Frierson,
Deputy Secretary of the Board.

[FR Doc. 2011-33363 Filed 12-28-11; 8:45 am]

BILLING CODE 6210-01-P